DEPARTMENT OF THE INTERIOR

National Park Service

[NPS-CAKR-LACL-ANIA-WRST-GAAR-14704; PPAKAKROR4] [PPMPRLE1Y.LS0000]

Cape Krusenstern National Monument Subsistence Resource Commission (SRC), Lake Clark National Park SRC, Aniakchak National Monument SRC, Wrangell-St. Elias National Park SRC, and Gates of the Arctic National Park SRC Meetings

AGENCY: National Park Service, Interior.

ACTION: Meeting notice.

SUMMARY: As required by the Federal Advisory Committee Act (5 U.S.C. Appendix 1-16), the National Park Service (NPS) is hereby giving notice that the Cape Krusenstern National Monument Subsistence Resource Commission (SRC), the Lake Clark National Park SRC, the Aniakchak National Monument SRC, the Wrangell-St. Elias National Park SRC, and the Gates of the Arctic National Park SRC will hold meetings to develop and continue work on NPS subsistence program recommendations and other related subsistence management issues. The NPS SRC program is authorized under Title VIII, Section 808 of the Alaska National Interest Lands Conservation Act, Public Law 96-487 (16 U.S.C. 3118).

Cape Krusenstern National Monument SRC Meeting Date and Location: The Cape Krusenstern National Monument SRC will meet from 9:00 a.m. to 5:00 p.m. or until business is completed on Thursday, January 23, 2014, and Friday, January 24, 2014, at the Northwest Arctic Heritage Center in Kotzebue, AK. For more detailed information regarding this meeting, contact Designated Federal Official Frank Hays, Superintendent, at (907) 442-3890; Ken Adkisson, Subsistence Manager, at (907) 443-2522; or Clarence Summers, Subsistence Manager, at (907) 644-3603. If you are interested in applying for Cape Krusenstern National Monument SRC membership, contact the Superintendent at P.O. Box 1029, Kotzebue, AK 99752, or visit the monument Web site at: http://www.nps.gov/cakr/contacts.htm.

Lake Clark National Park SRC Meeting Date and Location: The Lake Clark National Park SRC will meet from 12:30 p.m. to 4:30 p.m. or until business is completed on Thursday, January 23, 2014, at the Pedro Bay Village Council Building in Pedro Bay, AK. For more detailed information regarding this meeting, contact Designated Federal Official Margaret Goodro, Superintendent, at (907) 644-3626; Mary McBurney, Subsistence Manager, at (907) 235-7891; or Clarence Summers, Subsistence Manager, at (907) 644-3603. If you are interested in applying for Lake Clark National Park SRC membership, contact the Superintendent at 240 W. 5th Avenue, Suite 236, Anchorage, AK 9950, or visit the park Web site at: http://www.nps.gov/lacl/contacts.htm.

Aniakchak National Monument SRC Meeting Date and Location: The Aniakchak National Monument SRC will meet from 1:30 p.m. to 4:30 p.m. or until business is completed on Thursday, January 30, 2014, at the Port Heiden Community Building in Port Heiden, AK. For more detailed information regarding this meeting, contact Designated Federal Official Diane Chung, Superintendent, at (907) 246-3305; Mary McBurney, Subsistence Manager, at (907) 235-7891; or Clarence Summers, Subsistence Manager, at (907) 644-3603. If you are interested in applying for Aniakchak National Monument SRC membership, contact the Superintendent at P.O. Box 7, King Salmon, AK 99613, or visit the park Web site at: http://www.nps.gov/ania/contacts.htm.

Wrangell-St. Elias National Park SRC Meeting Date and Location: The Wrangell-St. Elias National Park SRC will meet from 9:00 a.m. to 5:00 p.m. or until business is completed on Tuesday, March 4, 2014, and Wednesday, March 5, 2014, at the Ahtna Cultural Center in Copper Center, AK. If SRC business is completed on Tuesday, March 4, 2014, the SRC will adjourn the meeting and not meet on Wednesday, March 5, 2014. Teleconferencing is available upon request. Teleconference participants should contact Barbara Cellarius, Subsistence Coordinator, via email at: barbara_cellarius@nps.gov or telephone (907) 822-7236 by 4:00 p.m. on Friday, February 28, 2014, to request call-in information. For more detailed information regarding this meeting, contact Designated Federal Official Rick Obernesser, Superintendent, at (907) 822-5234; Barbara Cellarius, Subsistence Manager, at (907) 822-7236; or Clarence Summers, Subsistence Manager, at (907) 644-3603. If you are interested in applying for Wrangell-St. Elias National Park SRC membership, contact the Superintendent at P.O. Box 439, Copper Center, AK 99753, or visit the park Web site at: http://www.nps.gov/wrst/contacts.htm.

Gates of the Arctic National Park SRC Meeting Date and Location: The Gates of the Arctic National Park SRC will meet from 9:00 a.m. to 5:00 p.m. or until business is completed on Tuesday, April 8, 2014, and Wednesday, April 9, 2014, at the NPS Office, in Bettles, AK. For more detailed information regarding this meeting, contact Designated Federal Official Greg Dudgeon, Superintendent, or Marcy Okada, Subsistence Manager, at (907) 457-5752; or Clarence Summers, Subsistence Manager, at (907) 644-3603. If you are interested in applying for Gates of the Arctic National Park SRC membership, contact the Superintendent at 4175 Geist Road, Fairbanks, AK 99709, or visit the park Web site at: http://www.nps.gov/gaar/contacts.htm.

National Park SRC Proposed Meeting Agenda:

The proposed meeting agenda for each meeting includes the following:

1. Call to Order—Confirm Quorum

2. Welcome and Introduction

3. Review and Adoption of Agenda

4. Approval of Minutes

5. Welcome by Local Community

6. Superintendent's Welcome and Review of the Commission Purpose

7. Commission Membership Status

8. SRC Chair and Members' Reports

9. Superintendent's Report

10. Old Business

11. New Business

12. Federal Subsistence Board Update

13. Alaska Boards of Fish and Game Update

14. National Park Service Reports

a. Ranger Update

b. Resource Management Update

c. Subsistence Manager's Report

15. Public and Other Agency Comments

16. Work Session

17. Set Tentative Date and Location for Next SRC Meeting

18. Adjourn Meeting

SRC meeting locations and dates may change based on inclement weather or exceptional circumstances. If the meeting date and location are changed, the Superintendent will issue a press release and use local newspapers and radio stations to announce the meeting.

SUPPLEMENTARY INFORMATION: These meetings are open to the public and will have time allocated for public testimony. The public is welcome to present written or oral comments to the SRC. The meetings will be recorded and meeting minutes will be available upon request from the Park Superintendent for public inspection approximately six weeks after the meeting. Before including your address, telephone number, email address, or other personal identifying information in your comment, you should be aware that your entire comment—including your personal identifying information—may be made publicly available at any time. While you may ask us in your comment to withhold your personal identifying information from public review, we cannot guarantee that we will be able to do so.

Dated: January 3, 2014.
Alma Ripps,
Chief, Office of Policy.

[FR Doc. 2014-00115 Filed 1-8-14; 8:45 am]

BILLING CODE 4312-EF-P